DEPARTMENT OF HOUSING AND URBAN DEVELOPMENT

[Docket No. FR-7039-N-02]

60-Day Notice of Proposed Information Collection: Promise Zones Reporting; OMB Control No.: 2501-0035

AGENCY: Office of Field Policy and Management, Housing and Urban Development (HUD).

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: October 19, 2021.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Promise Zones Reporting.

OMB Approval Number: 2501-0035.

Type of Request: Reinstatement with changes.

Form Number: HUD-9916 Promise Zone Annual Narrative Report.

HUD-9917 Quarterly Investments & Assistance Report.

HUD-9919 Quarterly Progress and Annual Priorities Report.

Description of the need for the information and proposed use: This collection is a reinstatement with changes to a previous collection that collected information for reporting purposes. The HUD-XXXX “New Neighborhood Amenities” form, from the original 2501-0035 OMB approval, has been removed from this collection because the form was never used. Additionally, HUD Form 9917 (Bi-annual Non-Federal Investment report) and HUD Form 9918 (Monthly Federal Grants Report) have been merged so that HUD 9917 will now collect the information previously captured in HUD 9918. HUD 9917 has therefore been reformatted to collect this new information and to be more user-friendly; HUD 9918 has been removed and retired from this collection. HUD-9917 will now be called the Quarterly Investments and Assistance Report; it will be collected quarterly and submitted cumulatively. These changes will reduce unnecessary copying and pasting, reformatting, and file management, and will ultimately reduce the burden on respondents.

HUD designated fourteen communities as urban Promise Zones between 2014 and 2016. Under the Promise Zones initiative, the federal government invests in and partners with high-poverty urban, rural, and tribal communities to create jobs, increase economic activity, improve educational opportunities, leverage private investment, and reduce violent crime. Additional information about the Promise Zones initiative can be found at https://www.hud.gov/program_offices/field_policy_mgt/fieldpolicymgtpz, and questions can be addressed to promisezone@hud.gov. The federal administrative duties pertaining to these designations shall be managed and executed by HUD for ten years from the designation dates pursuant to sections 2 and 3 of the HUD Act, 42 U.S.C. 3531-32, to assist the President in achieving maximum coordination of the various federal activities which have a major effect upon urban community, suburban, or metropolitan development; to develop and recommend the President policies for fostering orderly growth and development of the Nation's urban areas; and to exercise leadership, at the direction of the President, in coordinating federal activities affecting housing and urban development. To facilitate communication between local and federal partners, HUD proposes that Promise Zone Lead Organizations submit minimal reports and documents to support collaboration and problem solving between local and federal partners. These reports will also assist in communications and stakeholder engagement, both locally and nationally.

Respondents: Fourteen Promise Zone Lead Organizations.

Estimated Number of Respondents:

Information collection | Number of respondents | Frequency of response | Responses per annum | Burden hour per response | Annual burden hours | Hourly cost per response | Annual cost
Annual Report Narrative (9916) | 14 | 1 | 14 | 10 | 140 | $38.08 | $5,331.20
Quarterly Investments and Assistance report (9917) | 14 | 4 | 56 | 20 | 1,120 | 38.08 | 42,649.60
Quarterly Progress and Annual Priorities report (9919) | 14 | 4 | 56 | 10 | 560 | 38.08 | 21,324.80
Quarterly Spotlights (Public Communications materials) | 14 | 4 | 56 | 2 | 112 | 38.08 | 4,264.96
Total |  |  | 182 | 42 | 1,932 |  | 73,570.56

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Krista Mills,
Director, Office of Field Policy and Management.

[FR Doc. 2021-17885 Filed 8-19-21; 8:45 am]

BILLING CODE 4210-67-P